DEPARTMENT OF AGRICULTURE

Forest Service

Flathead Resource Advisory Committee

AGENCY: Forest Service, Agriculture (USDA).

ACTION: Notice of meeting.

SUMMARY: The Flathead Resource Advisory Committee (RAC) will hold two virtual meetings by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act as well as make recommendations on recreation fee proposals for sites on the Flathead National Forest within Flathead County, MT, consistent with the Federal Lands Recreation Enhancement Act. RAC information and virtual meeting information can be found at the following website: https://www.fs.usda.gov/main/flathead/workingtogether/advisorycommittees.

DATES: The meetings will be held on October 20 and 21, 2021, both at 4:00 p.m. to 8:00 p.m., Mountain Daylight Time.

All RAC meetings are subject to cancellation. For status of the meetings prior to attendance, please contact the person listed under For Further Information Contact.

ADDRESSES: The meetings will be held virtually via telephone and/or video conference. The public may join the meetings by dialing 1-636-352-2946 and using access code: 658379992#. Additional information on how to join will be posted at the website listed in the Summary.

Written comments may be submitted as described under Supplementary Information. All comments, including names and addresses when provided, are placed in the record and are available for public inspection and copying. The public may inspect comments received upon request.

FOR FURTHER INFORMATION CONTACT: Heather Seals, RAC Coordinator, by phone at 406-758-5251 or via email at heather.m.seals@usda.gov.

Individuals who use telecommunication devices for the deaf/hard-of-hearing (TDD) may call the Federal Relay Service (FRS) at 1-800-877-8339, 24 hours a day, every day of the year, including holidays.

SUPPLEMENTARY INFORMATION: The purpose of the meetings are to hear from Title II project proponents and discuss project proposals.

The meetings are open to the public. The agendas will include time for people to make oral statements of three minutes or less. Individuals wishing to make an oral statement at any of the meetings should make a request in writing by October 4, 2021 to be scheduled on the agenda for that particular meeting. Anyone who would like to bring related matters to the attention of the committee may file written statements with the committee staff before or after the meetings. Written comments and requests for time for oral comments must be sent to Heather Seals, RAC Coordinator, 650 Wolfpack Way, Kalispell, MT 59901 or by email to heather.m.seals@usda.gov or via facsimile to 406-758-5251.

Meeting Accommodations: Please make requests in advance for sign language interpreter services, assistive listening devices, or other reasonable accommodations. For access to the facility or proceedings, please contact the person listed in the section titled For Further Information Contact. All reasonable accommodation requests are managed on a case-by-case basis.

Dated: September 22, 2021.
Cikena Reid,
USDA Committee Management Officer.

[FR Doc. 2021-20870 Filed 9-24-21; 8:45 am]

BILLING CODE 3411-15-P